DEPARTMENT OF TRANSPORTATION

Federal Aviation Administration

14 CFR Part 39

[Docket No. FAA-2010-0553; Directorate Identifier 2010-NM-070-AD; Amendment 39-16448; AD 2010-20-13]

RIN 2120-AA64

Airworthiness Directives; McDonnell Douglas Corporation Model DC-10-30, DC-10-30F, DC-10-30F (KC-10A and KDC-10), DC-10-40, DC-10-40F, and MD-10-30F Airplanes

AGENCY: Federal Aviation Administration (FAA), DOT.

ACTION: Final rule.

SUMMARY: We are adopting a new airworthiness directive (AD) for certain Model DC-10-30, DC-10-30F, DC-10-30F (KC-10A and KDC-10), DC-10-40, DC-10-40F, and MD-10-30F airplanes. This AD requires doing a one-time inspection of the wire bundles to determine if wires touch the upper surface of the center upper auxiliary fuel tank, and marking the location if necessary; a one-time inspection for splices and damage of all wire bundles routed above the center upper auxiliary fuel tank; a one-time inspection for damage to the fuel vapor barrier seal and upper surface of the center upper auxiliary fuel tank; and corrective actions, if necessary. This AD also requires installing non-metallic barrier/shield sleeving to the wire harnesses, new clamps, new attaching hardware, and new extruded channels. This AD was prompted by fuel system reviews conducted by the manufacturer. We are issuing this AD to reduce the potential of ignition sources inside fuel tanks, which, in combination with flammable fuel vapors, could result in fuel tank explosions and consequent loss of the airplane.

DATES: This AD is effective November 9, 2010.

The Director of the Federal Register approved the incorporation by reference of a certain publication listed in the AD as of November 9, 2010.

ADDRESSES: For service information identified in this AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Samuel Lee, Aerospace Engineer, Propulsion Branch, ANM-140L, FAA, Los Angeles Aircraft Certification Office, 3960 Paramount Boulevard, Lakewood, California 90712-4137; telephone (562) 627-5262; fax (562) 627-5210.

SUPPLEMENTARY INFORMATION:

Discussion

We issued a notice of proposed rulemaking (NPRM) to amend 14 CFR part 39 to include an airworthiness directive (AD) that would apply to certain Model DC-10-30, DC-10-30F, DC-10-30F (KC-10A and KDC-10), DC-10-40, DC-10-40F, and MD-10-30F airplanes. That NPRM was published in the Federal Register on June 28, 2010 (75 FR 36579). That NPRM proposed to require doing a one-time inspection of the wire bundles to determine if wires touch the upper surface of the center upper auxiliary fuel tank, and marking the location if necessary; a one-time inspection for splices and damage of all wire bundles routed above the center upper auxiliary fuel tank; a one-time inspection for damage to the fuel vapor barrier seal and upper surface of the center upper auxiliary fuel tank; and corrective actions, if necessary. That NPRM also proposed to require installing non-metallic barrier/shield sleeving to the wire harnesses, new clamps, new attaching hardware, and new extruded channels.

Comments

We gave the public the opportunity to participate in developing this AD. We have considered the comment received. FedEx supports the NPRM.

Conclusion

We reviewed the relevant data, considered the comment received, and determined that air safety and the public interest require adopting the AD as proposed.

Costs of Compliance

We estimate that this AD affects 166 airplanes of U.S. registry.

We estimate the following costs to comply with this AD:

Table—Estimated Costs
Inspection and installation | Work hours | Average labor rate per hour | Parts | Cost per product | Number of U.S.- registered airplanes | Fleet cost
Group 1 Inspection | 16 | $85 | $0 | $1,360 | 75 | $102,000
Group 1 Installation | 200 | 85 | 13,309 | 30,309 | 75 | 2,273,175
Group 2 Inspection | 16 | 85 | 0 | 1,360 | 58 | 78,880
Group 2 Installation | 232 | 85 | 16,660 | 36,380 | 58 | 2,110,040
Group 3 Inspection | 16 | 85 | 0 | 1,360 | 18 | 24,480
Group 3 Installation | 200 | 85 | 12,258 | 29,258 | 18 | 526,644
Group 4 Inspection | 16 | 85 | 0 | 1,360 | 15 | 20,400
Group 4 Installation | 200 | 85 | 12,372 | 29,372 | 15 | 440,580

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§39.13 [Amended]

2. The FAA amends § 39.13 by adding the following new airworthiness directive (AD):

2010-20-13 McDonnell Douglas Corporation: Amendment 39-16448; Docket No. FAA-2010-0553; Directorate Identifier 2010-NM-070-AD.

Effective Date

(a) This AD is effective November 9, 2010.

Affected ADs

(b) None.

Applicability

(c) This AD applies to McDonnell Douglas Corporation Model DC-10-30, DC-10-30F, DC-10-30F (KC-10A and KDC-10), DC-10-40, DC10-40F, and MD-10-30F airplanes, certificated in any category; as identified in Boeing Service Bulletin DC10-28-244, dated February 25, 2010.

Subject

(d) Air Transport Association (ATA) of America Code 28: Fuel.

Unsafe Condition

(e) This AD results from fuel system reviews conducted by the manufacturer. The Federal Aviation Administration is issuing this AD to reduce the potential of ignition sources inside fuel tanks, which, in combination with flammable fuel vapors, could result in fuel tank explosions and consequent loss of the airplane.

Compliance

(f) You are responsible for having the actions required by this AD performed within the compliance times specified, unless the actions have already been done.

Actions

(g) Within 60 months after the effective date of this AD do the actions specified in paragraphs (g)(1), (g)(2), (g)(3), and (g)(4) of this AD, as applicable, and do all applicable corrective actions, in accordance with the Accomplishment Instructions of Boeing Service Bulletin DC10-28-244, dated February 25, 2010, except as required by paragraph (h) of this AD. Do all applicable corrective actions before further flight.

(1) Do a one-time general visual inspection of the wire bundles to determine if wires touch the upper surface of the center upper auxiliary fuel tank, and mark the location as applicable.

(2) Do a one-time detailed inspection for splices and damage of all wire bundles between Stations Y = 1219.000 and Y = 1381.000 between X = −40 to X = −90 (right side) and X = 15 to X = 85 (left side) above the center upper auxiliary fuel tank.

(3) Do a one-time detailed inspection for damage (burn marks) on the upper surface of the center upper auxiliary fuel tank and to the fuel vapor barrier seal.

(4) Install non-metallic barrier/shield sleeving to the wire harnesses, new clamps, new attaching hardware, and new extruded channels.

(h) Where Boeing Service Bulletin DC10-28-244, dated February 25, 2010, specifies to contact Boeing for repair instructions: Before further flight, repair the center upper auxiliary fuel tank using a method approved in accordance with the procedures specified in paragraph (i) of this AD.

Alternative Methods of Compliance (AMOCs)

(i)(1) The Manager, Los Angeles Aircraft Certification Office (ACO), FAA, has the authority to approve AMOCs for this AD, if requested using the procedures found in 14 CFR 39.19. Send information to ATTN: Samuel Lee, Aerospace Engineer, Propulsion Branch, ANM-140L, FAA, Los Angeles ACO, 3960 Paramount Boulevard, Lakewood, California 90712-4137; telephone (562) 627-5262; fax (562) 627-5210.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) An AMOC that provides an acceptable level of safety may be used for any repair required by this AD if it is approved by the Boeing Commercial Airplanes Organization Designation Authorization (ODA) that has been authorized by the Manager, Los Angeles ACO to make those findings. For a repair method to be approved, the repair must meet the certification basis of the airplane and the approval must specifically refer to this AD.

Related Information

(j) For more information about this AD, contact Samuel Lee, Aerospace Engineer, Propulsion Branch, ANM-140L, FAA, Los Angeles Aircraft Certification Office, 3960 Paramount Boulevard, Lakewood, California 90712-4137; telephone (562) 627-5262; fax (562) 627-5210.

Material Incorporated by Reference

(k) You must use Boeing Service Bulletin DC10-28-244, dated February 25, 2010, to do the actions required by this AD, unless the AD specifies otherwise.

(1) The Director of the Federal Register approved the incorporation by reference of the service information specified in this AD under 5 U.S.C. 552(a) and 1 CFR part 51.

(2) For service information identified in this AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on September 16, 2010.
Robert D. Breneman,
Acting Manager, Transport Airplane Directorate, Aircraft Certification Service.

[FR Doc. 2010-24171 Filed 10-4-10; 8:45 am]

BILLING CODE 4910-13-P